DEPARTMENT OF HEALTH AND HUMAN SERVICES

Administration for Children and Families

Submission for OMB Review; Comment Request

Title: Child Care Development Fund, CCDF; Reporting Improper Payments; Instructions for States.

OMB No.: 0970-0323.

Description: Section 2 of the Improper Payments Act of 2002 provides for estimates and reports of improper payments by Federal agencies. Subpart K of 45 CFR, part 98 will require States to prepare and submit a report of errors occurring in the administration of CCDF grant funds once every three years.

The Office of Child Care (OCC) is completing the third 3-year cycle of case record reviews to meet the requirements for reporting under IPIA. The current forms and instructions expire September 30, 2015. OCC is submitting the information collection for renewal clearance with minor changes. Responders will now have additional guidance and clarification in the instructions and errors have been corrected. New language incorporates requirements from the 2014 Child Care and Development Fund Block Grant Act passed in November 2014.

Respondents: State grantees, the District of Columbia, and Puerto Rico

Annual Burden Estimates
Instrument | Number of respondents | Number of responses per respondent | Average burden hours per response | Total burden hours
Sampling Decisions and Fieldwork Preparation Plan | 17 | 1 | 106 | 1,802
Record Review Worksheet | 17 | 276 | 6.33 | 29,700.36
State Improper Authorizations for Payment Report | 17 | 1 | 639 | 10,863
Corrective Action Plan | 8 | 1 | 156 | 1,248

Estimated Total Annual Burden Hours: 43,613.36.

Additional Information:Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment:OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV. Attn: Desk Officer for the Administration for Children and Families.

Robert Sargis,
Reports Clearance Officer.

[FR Doc. 2015-10296 Filed 5-1-15; 8:45 am]

BILLING CODE 4184-01-P